FEDERAL COMMUNICATIONS COMMISSION

47 CFR Part 51

[CC Docket No. 01-318, CC Docket No. 98-56, CC Docket No. 98-157, CC Docket No. 96-98, CC Docket No. 98-141; DA 01-2859]

Performance Measurements and Standards for Unbundled Network Elements and Interconnection

AGENCY: Federal Communications Commission.

ACTION: Proposed rule; extension of comment period.

SUMMARY: This document grants a motion requesting an extension of the comment period established in the above-captioned docket. The order grants a 21-day extension to both the comment and reply comment deadlines.

DATES: Comments are due January 22, 2002 and Reply Comments are due February 12, 2002.

FOR FURTHER INFORMATION CONTACT: Cathy Carpino, Attorney Advisor, Policy and Program Planning Division, Common Carrier Bureau, (202) 418-1580.

SUPPLEMENTARY INFORMATION: 1. On November 19, 2001, the Commission released a Notice of Proposed Rulemaking (66 FR 59759 (November 30, 2001)) establishing the pleading cycle for comments and reply comments in the above-captioned docket. The deadline for comments was established as December 31, 2001, and January 22, 2002 for reply comments.

2. On December 3, 2001, the United States Telecom Association (USTA) filed a Motion for Extension of Time to extend the date for comments and reply comments by 30 days. According to USTA, it seeks this extension to permit its membership the opportunity “to undertake the dialogue necessary to pursue an industry wide solution” to unbundled network element (UNE) performance standards in response to the UNE Measurements and Standards Notice. USTA argues that the current comment schedule, which, it notes, falls within the upcoming holiday season, would not provide USTA's members an adequate opportunity to consider the issues raised in this proceeding and that an extension would not prejudice the interests of other parties.

3. On December 4, 2001, BellSouth Corporation (BellSouth) filed comments in support of USTA's extension request, noting that during this holiday season, many of BellSouth's personnel who are necessary to address the issues raised in this proceeding are often unavailable. BellSouth argues that affording the parties additional time to prepare comments will facilitate the development of a more complete record that will, in turn, enable the Commission to conclude this proceeding in a reasonable and timely manner. On December 5, 2001, the Competitive Telecommunications Association (CompTel) filed similar comments in support of the USTA Motion. Like BellSouth, CompTel contends that a modest extension of the comment period would permit interested parties to provide more substantive and complete comments on the complex issues raised in the UNE Measurements and Standards Notice. CompTel argues that the subject matter about which the Commission requested comment will require a great deal of inter-company coordination between operations, engineering, provisioning and policy experts to provide the Commission with the most useful information. CompTel notes that the upcoming holiday season will only exacerbate an undertaking that will already be complicated by the dispersion of expertise within the organizations of both competitive and incumbent carriers.

4. It is the policy of the Commission that extensions of time are not routinely granted. In this instance, however, the Bureau finds that USTA, BellSouth, and CompTel have shown good cause for a limited extension of the deadline for filing comments and reply comments in this proceeding. Because of the complexity and the sheer number of issues presented in the UNE Measurements and Standards Notice, the Commission's desire to obtain a complete record with input from both carriers and state public utility commissions, and the impending holiday season, a 21-day extension is granted for both comments and reply comments from the dates those comments were due initially.

5. Accordingly, pursuant to authority found in section 4(i) of the Communications Act of 1934, as amended, 47 U.S.C. 154(i), and sections 0.91, 0.291 and 1.46 of the Commission's rules, 47 CFR 0.91, 0.291, 1.46, USTA's Motion for Extension of Time is granted to the extent described herein to establish a new comments deadline of January 22, 2002 and reply comments deadline of February 12, 2002.

Federal Communications Commission.
Michelle M. Carey,
Chief, Policy and Program Planning Division.

[FR Doc. 01-30984 Filed 12-14-01; 8:45 am]

BILLING CODE 6712-01-P